FARM CREDIT ADMINISTRATION

Public Meeting on Other Financing Institutions and Alternative Funding Mechanisms

ACTION: Notice of meeting; additional information.

SUMMARY: On July 5, 2001, the Farm Credit Administration (FCA) published a notice announcing a public meeting in Des Moines, Iowa on August 3, 2001 about (1) The funding and discount relationship between other financing institutions (OFIs) and Farm Credit System (FCS or System) banks, and (2) other partnerships between FCS and non-System institutions that would increase the availability of agricultural and rural credit. This notice provides the public with more information about the time, place, and procedures for requesting to speak and submit testimony at the public meeting.

DATES: The public meeting will begin at 8:30 a.m. Central Daylight Time on August 3, 2001 in Des Moines, Iowa.

ADDRESSES: The FCA will hold the public meeting at the Embassy Suites Hotel on the River, 101 East Locust Street, Des Moines, Iowa, 50309 (515) 244-1700. You may submit requests to appear and present testimony for the public meeting by electronic mail to reg-comm@fca.gov or through the Pending Regulations section of our Web site at www.fca.gov. You may also send your request in writing to Thomas G. McKenzie, Director, Regulation and Policy Division, Office of Policy and Analysis, Farm Credit Administration, 1501 Farm Credit Drive, McLean, VA 22102-5090, or by facsimile transmission to (703) 734-5785.

FOR FURTHER INFORMATION CONTACT:

Dennis Carpenter, Senior Policy Analyst, Office of Policy and Analysis, Farm Credit Administration, 1501 Farm Credit Drive, McLean, Virginia 22102-5090, (703) 883-4498, TDD (703) 883-4444,

or

Richard A. Katz, Senior Attorney, Office of General Counsel, Farm Credit Administration, 1501 Farm Credit Drive, McLean, Virginia 22102-5090, (703) 883-4020, TDD (703) 883-4444.

SUPPLEMENTARY INFORMATION: On July 5, 2001, we published a notice in the Federal Register that the FCA would hold a public meeting about OFIs and other partnerships between System and non-System institutions that increase funding for agriculture and rural America. See 66 FR 35429. Our earlier notice told you we would publish the name and address of the meeting facility on our Web site and in the Federal Register at least 15 days before the date of the public meeting. This notice informs you of the exact location and time of the public meeting.

I. Request To Present Testimony

As noted in our original Notice of Public Meeting, any interested party wishing to present testimony at the meeting may submit a request to the FCA at one of the addresses we listed at the outset of this notice. You may also identify yourself and your intent to speak the day of the public meeting. In order to provide the most opportunity for interested parties to present their views, we encourage you to testify as part of a panel. A request to speak should provide the name, address and telephone number of the person wishing to testify and the general nature of the testimony. Once we receive your request to testify, we may assign you to a panel and notify you when you are scheduled to speak. As time permits, following any panel presentations, we may accept individual testimony. Also, if time permits, at the end of the public meeting, additional parties who were not scheduled to speak may be invited to provide their thoughts and comments on questions posed in this notice.

II. Written Comments and Testimony

As addressed in our original Notice of Public Meeting, we intend to include all comments in our official public record. For this reason, we ask you to provide us with a written statement or detailed summary of your oral testimony by the close of the public meeting. We also ask, if possible, that you send us an electronic version of your oral testimony before August 3, 2001. If you are not invited to testify because of time constraints, you may give us a written statement, which we will place in the record.

Written copies of the testimony along with a recorded transcript of the proceedings will be included with a recorded transcript of the proceedings will be included in our rulemaking files. We encourage you to bring extra copies of your written statement (we suggest 50 copies) for distribution to the press and other interested parties attending the public meeting.

The FCA Board will accept written comments, in support of or in rebuttal to testimony presented at the public meeting or comments submitted for the record. The comment period for such additional comments will end 30 days following the date of this public meeting. The comments, as well as all documents and testimony received by the FCA as part of the public meeting process, will be available for public inspection at the FCA's offices Office of Policy and Analysis in McLean, Virginia.

Dated: July 16, 2001.
Kelly Mikel Williams,
Secretary, Farm Credit Administration Board.

[FR Doc. 01-18056 Filed 7-18-01; 8:45 am]

BILLING CODE 6705-01-P